OFFICE OF PERSONNEL MANAGEMENT

Excepted Service

AGENCY: U.S. Office of Personnel Management (OPM).

ACTION: Notice.

SUMMARY: This notice identifies Schedule A, B, and C appointing authorities applicable to a single agency that were established or revoked from April 1, 2014, to April 30, 2014.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

09. Department of the Air Force (Sch. A 213.3109)

(b) General

(2) Two hundred positions, serviced by Hill Air Force Base, Utah, engaged in interdepartmental activities in support of national defense projects involving scientific and technical evaluations.

Schedule B

No Schedule B authorities to report during April 2014.

Schedule C

The following Schedule C appointing authorities were approved during April 2014.

Agency name | Organization name | Position title | Authorization No. | Effective date
DEPARTMENT OF AGRICULTURE | Farm Service Agency | State Executive Director—West Virginia | DA140050 | 4/2/2014
|  | State Executive Director | DA140057 | 4/21/2014
|  | State Executive Director | DA140063 | 4/30/2014
|  | State Executive Director—Louisiana | DA140051 | 4/4/2014
| Rural Housing Service | State Director—Virginia | DA140054 | 4/25/2014
| Rural Utilities Service | Senior Advisor | DA140052 | 4/3/2014
DEPARTMENT OF COMMERCE | Office of the Chief Economist | Special Project Advisor | DC140076 | 4/28/2014
| Office of the Chief of Staff | Advance Specialist | DC140084 | 4/29/2014
| Assistant Secretary for Industry and Analysis | Senior Advisor for Manufacturing Policy | DC140079 | 4/30/2014
| Advocacy Center | Special Assistant, Advocacy Center | DC140074 | 4/15/2014
DEPARTMENT OF DEFENSE | Office of the Assistant Secretary of Defense (Special Operations/Low Intensity Conflict and Interdependent Capabilities) | Principal Director for Special Operations and Combating Terrorism | DD140057 | 4/10/2014
| Office of the Secretary | Deputy White House Liaison | DD140061 | 4/14/2014
DEPARTMENT OF EDUCATION | Office of Legislation and Congressional Affairs | Special Assistant | DB140055 | 4/3/2014
| Office of Innovation and Improvement | Senior Advisor for Science, Technology, Engineering and Math (STEM) | DB140056 | 4/3/2014
| Office of the Secretary | Senior Advisor | DB140057 | 4/3/2014
| Office of Elementary and Secondary Education | Special Assistant | DB140059 | 4/8/2014
| Office of Elementary and Secondary Education | Special Assistant | DB140060 | 4/15/2014
| Office of Communications and Outreach | Deputy Press Secretary | DB140063 | 4/18/2014
| Office of the Under Secretary | Confidential Assistant | DB140064 | 4/28/2014
|  | Special Assistant | DB140062 | 4/15/2014
DEPARTMENT OF ENERGY | Office of the Secretary of Energy Advisory Board | Deputy Director | DE140053 | 4/4/2014
| Under Secretary for Science | Senior Advisor | DE140057 | 4/23/2014
| Assistant Secretary for Congressional and Intergovernmental Affairs | Special Assistant | DE140056 | 4/24/2014
ENVIRONMENTAL PROTECTION AGENCY | Office of the Associate Administrator for External Affairs and Environmental Education | Deputy Press Secretary | EP140023 | 4/1/2014
|  | Director of Public Engagement | EP140024 | 4/10/2014
EXPORT-IMPORT BANK | Office of Communications | Senior Advisor for Communications | EB140006 | 4/7/2014
FEDERAL COMMUNICATIONS COMMISSION | Office of Media Relations | Public Affairs Specialist | FC140009 | 4/30/2014
DEPARTMENT OF HEALTH AND HUMAN SERVICES | Office of Intergovernmental and External Affairs | Confidential Assistant | DH140050 | 4/1/2014
| Office of the Assistant Secretary for Health | Special Assistant | DH140056 | 4/28/2014
DEPARTMENT OF HOMELAND SECURITY | Office of the Under Secretary for National Protection and Programs Directorate | Senior Advisor | DM140122 | 4/8/2014
| Office of the Secretary | Special Assistant | DM140126 | 4/28/2014
| Federal Emergency Management Agency | Special Assistant | DM140127 | 4/28/2014
| Office of the Under Secretary for National Protection and Programs Directorate | Senior Advisor for Public Affairs | DM140131 | 4/30/2014
DEPARTMENT OF HOUSING AND URBAN DEVELOPMENT | Office of Public Affairs | Press Secretary | DU140021 | 4/16/2014
DEPARTMENT OF THE INTERIOR | Secretary's Immediate Office | Special Assistant | DI140027 | 4/8/2014
|  | Deputy Director of Advance | DI140026 | 4/25/2014
DEPARTMENT OF JUSTICE | Community Oriented Policing Services | Chief of Staff | DJ140041 | 4/10/2014
DEPARTMENT OF LABOR | Office of the Secretary | White House Liaison | DL140037 | 4/1/2014
| Wage and Hour Division | Senior Advisor | DL140040 | 4/16/2014
| Office of Public Affairs | Speechwriter (2) | DL140039 | 4/17/2014
|  |  | DL140033 | 4/1/2014
| Office of the Assistant Secretary for Policy | Chief of Staff | DL140030 | 4/25/2014
OCCUPATIONAL SAFETY AND HEALTH REVIEW COMMISSION | Office of Commissioners | Counsel to a Commissioner | SH140002 | 4/28/2014
OFFICE OF MANAGEMENT AND BUDGET | Office of the Director | Special Assistant | BO140012 | 4/24/2014
|  | Assistant to the Director | BO140013 | 4/24/2014
|  | Confidential Assistant | BO140015 | 4/28/2014
OFFICE OF PERSONNEL MANAGEMENT | Communications and Public Liaison | Social Media Director | PM140012 | 4/17/2014
SMALL BUSINESS ADMINISTRATION | Office of the Administrator | Scheduler | SB140014 | 4/8/2014
|  | Special Assistant | SB140015 | 4/8/2014
| Office of Entrepreneurial Development | Special Advisor for Entrepreneurial Development | SB140018 | 4/22/2014
DEPARTMENT OF STATE | Bureau of Legislative Affairs | Legislative Management Officer | DS140073 | 4/3/2014
| Office of International Information Programs | Public Affairs Specialist | DS140074 | 4/3/2014
| Bureau of International Security and Nonproliferation | Staff Assistant | DS140076 | 4/16/2014
| Office of the Deputy Secretary for Management and Resources | Senior Advisor | DS140077 | 4/16/2014
| Office of the Chief of Protocol | Protocol Officer (Visits) | DS140075 | 4/15/2014
| Bureau of Public Affairs | Deputy Assistant Secretary | DS140072 | 4/21/2014
| Office of the Coordinator for Counterterrorism | Senior Advisor | DS140078 | 4/17/2014
| Bureau of Economic and Business Affairs | Senior Advisor | DS140079 | 4/18/2014
| Office of the Under Secretary for Economic Growth, Energy, and the Environment | Senior Advisor | DS140081 | 4/28/2014
DEPARTMENT OF TRANSPORTATION | Assistant Secretary for Governmental Affairs | Associate Director for Governmental and Tribal Affairs | DT140026 | 4/9/2014
|  | Deputy Assistant Secretary for Congressional Affairs | DT140028 | 4/16/2014
| Secretary | Special Assistant for Scheduling and Advance | DT140030 | 4/23/2014
| Assistant Secretary for Governmental Affairs | Deputy Assistant Secretary for Governmental Affairs | DT140029 | 4/25/2014
DEPARTMENT OF THE TREASURY | Secretary of the Treasury | Special Assistant | DY140065 | 4/11/2014
| Assistant Secretary (Public Affairs) | Senior Advisor | DY140066 | 4/11/2014

The following Schedule C appointing authorities were revoked during March 2014.

Agency | Organization | Position title | Authorization No. | Vacate date
DEPARTMENT OF AGRICULTURE | Farm Service Agency | State Executive Director—Utah | DA130196 | 4/3/2014
DEPARTMENT OF EDUCATION | Office of the Deputy Secretary | Special Assistant | DB130019 | 4/4/2014
| Office of the Secretary | Deputy Chief of Staff | DB110006 | 4/5/2014
| Office of Planning, Evaluation and Policy Development | Senior Advisor for Science, Technology, Engineering and Math (STEM) | DB120084 | 4/5/2014
| Office of Vocation and Adult Education | Special Assistant | DB120081 | 4/5/2014
| Office of Elementary and Secondary Education | Confidential Assistant | DB140008 | 4/19/2014
| Office of the Under Secretary | Confidential Assistant | DB130039 | 4/25/2014
| Office of Communications and Outreach | Deputy Press Secretary for Strategic Communications | DB130025 | 4/27/2014
DEPARTMENT OF HEALTH AND HUMAN SERVICES | Office of the Assistant Secretary for Planning and Evaluation | Director of Delivery System Reform | DH110075 | 4/4/2014
| Office of the Assistant Secretary for Public Affairs | Digital Communications Coordinator | DH130129 | 4/4/2014
| Office of the Secretary | Senior Advisor to the Executive Secretary | DH120047 | 4/5/2014
| Office of the Assistant Secretary for Public Affairs | Press Secretary | DH130054 | 4/16/2014
| Office of Intergovernmental and External Affairs | Director of Business Outreach | DH110139 | 4/18/2014
DEPARTMENT OF HOMELAND SECURITY | Federal Emergency Management Agency | Confidential Assistant | DM110006 | 4/5/2014
| Office of the General Counsel | Special Assistant to the General Counsel and Attorney Advisor | DM130029 | 4/5/2014
| Office of the Chief of Staff | Special Assistant to the Deputy Chief Of Staff | DM130115 | 4/11/2014
| Privacy Officer | Advisor to the Chief Privacy Officer | DM140113 | 4/13/2014
DEPARTMENT OF HOUSING AND URBAN DEVELOPMENT | Office of the General Counsel | Senior Counsel | DU130045 | 4/11/2014
DEPARTMENT OF JUSTICE | Foreign Claims Settlement Commission | Special Assistant to the Chairman | DJ120013 | 4/5/2014
| Office of the Attorney General | Special Assistant | DJ100170 | 4/6/2014
| Civil Division | Counsel | DJ090224 | 4/19/2014
| Office of the Deputy Attorney General | Senior Counsel | DJ110094 | 4/19/2014
DEPARTMENT OF LABOR | Office of the Assistant Secretary for Policy | Special Assistant | DL110028 | 4/5/2014
| Office of Congressional and Intergovernmental Affairs | Legislative Officer | DL090108 | 4/13/2014
DEPARTMENT OF THE INTERIOR | Secretary's Immediate Office | Special Assistant for Advance | DI130010 | 4/19/2014
DEPARTMENT OF TRANSPORTATION | Assistant Secretary for Governmental Affairs | Deputy Assistant Secretary for Governmental Affairs | DT090074 | 4/2/2014
| General Counsel | Associate General Counsel | DT120015 | 4/4/2014
| Assistant Secretary for Governmental Affairs | Deputy Assistant Secretary for Governmental Affairs | DT120002 | 4/19/2014
| Administrator | Director for Governmental Affairs | DT120032 | 4/19/2014
| Assistant Secretary for Governmental Affairs | Associate Director for Governmental Affairs | DT130011 | 4/19/2014
ENVIRONMENTAL PROTECTION AGENCY | Office of the Administrator | White House Liaison | EP130029 | 4/5/2014
EXPORT-IMPORT BANK | Board of Directors | Executive Secretary | EB120002 | 4/19/2014
| Office of Communications | Senior Vice President, Communications | EB120005 | 4/25/2014
OFFICE OF NATIONAL DRUG CONTROL POLICY | Office of Public Affairs | Special Assistant for Strategic Communications | QQ130001 | 4/20/2014
OFFICE OF THE SECRETARY OF DEFENSE | Washington Headquarters Services | Defense Fellow | DD120096 | 4/5/2014
| Office of the Secretary | Deputy White House Liaison | DD130048 | 4/5/2014
| Office of the Secretary | Special Assistant to the White House Liaison | DD120067 | 4/19/2014
SMALL BUSINESS ADMINISTRATION | Office of the Administrator | Special Advisor | SB120033 | 4/20/2014

Authority: 5 U.S.C. 3301 and 3302; E.O. 10577, 3 CFR, 1954-1958 Comp., p. 218.

U.S. Office of Personnel Management.
Katherine Archuleta,
Director.

[FR Doc. 2014-13551 Filed 6-10-14; 8:45 am]

BILLING CODE 6325-39-P